ENVIRONMENTAL PROTECTION AGENCY

[EPA-R04-OAR-2016-0667; FRL-9960-41-Region 4]

Notice of Issuance and Notice of Rescission of Outer Continental Shelf Air Permits

AGENCY: Environmental Protection Agency (EPA).

ACTION: Notice of final actions.

SUMMARY: This notice is to announce that the Environmental Protection Agency (EPA) issued a final Outer Continental Shelf (OCS) air permit numbered OCS-EPA-R4021 to Anadarko Petroleum Corporation (Anadarko) on December 20, 2016. In addition, the EPA is providing notice that, at the permittee's request, EPA rescinded an OCS permit numbered OCS-EPA-R4012 on March 23, 2016, for Statoil Gulf Services LLC (Statoil).

ADDRESSES: The final permits and supporting information are available at https://www.epa.gov/caa-permitting/outer-continental-shelf-ocs-permit-activity-southeastern-us. These materials are also available for review at the EPA Region 4 Office and upon request in writing. The EPA requests that you contact the person listed in the FOR FURTHER INFORMATION CONTACT section to schedule an inspection of these materials or to submit a written request for copies of these materials. The Regional Office's official hours of business are Monday through Friday, 8:30 a.m. to 4:30 p.m., excluding Federal holidays.

FOR FURTHER INFORMATION CONTACT: Ms. Kelly Fortin, Air Permitting Section, Air, Pesticides and Toxics Management Division, Region 4, U.S. Environmental Protection Agency, 61 Forsyth Street SW., Atlanta, Georgia 30303-8960. Ms. Fortin can be reached by phone at (404) 562-9117 and via electronic mail at fortin.kelly@epa.gov.

SUPPLEMENTARY INFORMATION: On November 14, 2016, EPA requested public comments on the proposed OCS air permit numbered OCS-EPA-R4021 for the Anadarko Bob Douglas project. During the public comment period, which ended on December 14, 2016, the EPA did not receive any comments.

After consideration of the pertinent federal statutes and regulations, the application and supplemental information submitted by the applicant, and additional material relevant to the application contained in the Administrative Record, the EPA made a final determination on December 20, 2016, in accordance with 40 CFR parts 55 and 71 to issue the final air permit. Because no comments were filed, the Anadarko permit became effective on December 20, 2016. See 40 CFR 71.11(i)(iii), 40 CFR 124.15(b)(3).

In addition, on December 29, 2015, EPA received a request from Statoil for EPA to rescind OCS permit OCS-EPA-R4012 as Statoil was no longer conducting exploratory drilling operations pursuant to this permit. Pursuant to Statoil's request and 40 CFR part 55, EPA terminated Statoil's OCS permit on March 23, 2016.

EPA must follow the administrative procedures of 40 CFR part 71 when issuing permits to OCS sources subject to Title V requirements such as the Anadarko and Statoil sources identified above. See 40 CFR 71.4(d). Prior to November 17, 2016, EPA was also required to follow the administrative procedures in 40 CFR part 124 used to issue Prevention of Significant Deterioration permits when processing OCS permit applications under Part 55, including OCS permit applications for sources subject to Title V requirements.¹ Under 40 CFR 124.19(l)(3) and 40 CFR 71.11(l)(7), notice of any final Agency action regarding a subject permit must be published in the Federal Register. Section 307(b)(1) of the Clean Air Act (CAA) provides for review of final Agency action that is locally or regionally applicable in the United States Court of Appeals for the appropriate circuit. Such a petition for review of final Agency action must be filed on or before 11:59 p.m. on the 60th day from the date of notice of such action in the Federal Register.

¹ Effective November 17, 2016, EPA must follow the applicable procedures of 40 CFR part 71 or part 124 in processing OCS permit applications under 40 CFR part 55. See 40 CFR 55.6(a)(3), 81 FR 71613 (October 18, 2016). Prior to this effective date, EPA was required to follow the applicable procedures of 40 CFR part 124 when processing such applications and also required to follow the procedures of 40 CFR part 71 when issuing permits to OCS sources subject to Title V requirements.

Dated: March 14, 2017.
Beverly H. Banister,
Director, Air, Pesticides, and Toxics, Management Division, Region 4.

Editorial note: This document was received for publication by the Office of the Federal Register on July 11, 2017.

[FR Doc. 2017-14838 Filed 7-13-17; 8:45 am]

BILLING CODE 6560-50-P